DEPARTMENT OF EDUCATION

Applications for New Awards: Personnel Development To Improve Services and Results for Children With Disabilities; National Center for Development of Coursework and Training Modules To Improve Services and Results for Children With Disabilities

AGENCY: Office of Special Education and Rehabilitative Services, Department of Education.

ACTION: Notice.

Overview Information; Personnel Development To Improve Services and Results for Children With Disabilities—National Center for Development of Coursework and Training Modules To Improve Services and Results for Children With Disabilities

Notice inviting applications for new awards for fiscal year (FY) 2012.

Catalog of Federal Domestic Assistance (CFDA) Number: 84.325E.

DATES: Applications Available: June 19, 2012.

Deadline for Transmittal of Applications: July 30, 2012.

Full Text of Announcement

I. Funding Opportunity Description

Purpose of Program: The purposes of this program are to (1) help address State-identified needs for highly qualified personnel—in special education, related services, early intervention, and regular education—to work with children, including infants and toddlers, with disabilities; and (2) ensure that those personnel have the necessary skills and knowledge, derived from practices that have been determined, through evidence-based research and experience, to be successful in serving those children.

Priority: In accordance with 34 CFR 75.105(b)(2)(iv), this priority is from allowable activities specified in the statute (see sections 662 and 681 of the Individuals with Disabilities Education Act (IDEA)).

Absolute Priority: For FY 2012 and any subsequent year in which we make awards from the list of unfunded applicants from this competition, this priority is an absolute priority. Under 34 CFR 75.105(c)(3), we consider only applications that meet this priority.

This priority is: National Center for Development of Coursework and Training Modules to Improve Services and Results for Children with Disabilities.

Background: The purpose of this priority is to fund a cooperative agreement to support the establishment and operation of a National Center for Development of Coursework and Training Modules to Improve Services and Results for Children with Disabilities.

Educator effectiveness is a key factor in improving developmental and learning outcomes (e.g., academic, social, emotional, behavioral) for all children, including children with disabilities (birth through age 21); supporting a child's growth toward improved developmental and learning outcomes; and supporting the families of children with disabilities (Jaquith, Mindich, Wei, & Darling-Hammond, 2010; Institute of Medicine (IOM) and National Research Council (NRC), 2012). Use of evidence-based instructional and intervention practices by educators also is linked to improved outcomes for children, including children with disabilities (Blanton, Pugach, & Florian, 2011). Given the importance of educator effectiveness and evidence-based practices in advancing the development and learning of children, it is essential that all educators have the knowledge and skills necessary to use specific, evidence-based instructional and intervention practices to teach diverse learners and ensure that all students, including children with disabilities, can achieve grade-level college- and career-ready standards (Blanton et al., 2011). Educators also must know how to continuously monitor children's progress, make data-based decisions, and work collaboratively with other educators, related services providers, and families to use assessment data to adjust instruction and implement interventions accordingly to effectively teach diverse learners.

To ensure that educators have the knowledge and skills needed to improve development and learning outcomes for children with disabilities, it is also widely recognized that there is a significant need to improve educators' use of evidence-based practices and that this can be achieved by strengthening the coursework ¹ in preservice preparation programs and professional development provided to practicing educators. Policymakers, researchers, and practitioners have called for strengthening preservice preparation and professional development for all educators ² to ensure that educators have the knowledge and skills necessary to effectively meet the needs of diverse learners and improve outcomes for all children (Blanton, et al., 2011; U.S. Department of Education, 2010b). A recent U.S. Government Accountability Office (GAO) study (GAO-09-573) underscored the ongoing challenges preservice preparation programs have in preparing educators for instructing children with disabilities. The study noted that nearly half of the institutions of higher education (IHEs) surveyed reported receiving assistance from the Department to prepare educators to work with children with disabilities. The majority of IHEs, however, indicated that they could benefit from more information and other technical assistance (TA) related to reforming curricula, identifying evidence-based instructional and intervention practices for working with children with disabilities, and strengthening faculty knowledge of evidence-based practices to meet the developmental, learning, and instructional needs of children with disabilities. Similarly, an examination of professional learning opportunities for educators in the United States indicated the need for critical changes to providing professional development to practicing educators (Wei, Darling-Hammond, & Adamson, 2010). For example, current approaches for providing professional development still rely heavily on some of the least effective approaches to professional development (e.g., short-term, fragmented, and episodic approaches, such as providing instructional content through workshops) that offer little depth in content and few opportunities to integrate learning into practice (Bruder, Mogro-Wilson, Stayton, & Dietrich, 2009; Wei et al., 2010).

¹ For the purposes of this priority, the term “coursework” means a systematic or prescribed program of instruction for increasing knowledge and skills of educators; and typically is comprised of explicit learning outcomes related to professional practice standards, detailed core content, related professional-level readings and resources, teaching and learning tools, and objective measures of knowledge and skills to evaluate competence in those areas.

² For the purposes of this priority, the term “educators” includes special education teachers, regular education teachers, related services providers, and early intervention providers.

Just as the need to strengthen the coursework in preservice training programs and professional development opportunities for practicing educators has grown, so too has the need for changes in how this coursework and professional development are delivered. The National Education Technology Plan (NETP) calls for using the power of technology to provide professional learning opportunities to support educators' continuous professional growth throughout the course of their careers and across all levels of the education system (U.S. Department of Education, 2010a). By using existing and emerging technologies such as application software, social media, and mobile technologies, innovative teaching and learning tools can be developed, and opportunities for disseminating coursework and professional development can be expanded to preservice and practicing educators who live or teach in places where access to high-quality coursework and professional development may not otherwise be available (e.g., high-poverty, rural, or hard-to-reach locations). In addition, educators who have disabilities would benefit from the increased accessibility that technology can provide. Furthermore, for directed (e.g., instructor-led, person-to-person), self-directed (e.g., independent study, asynchronous on-line course), and blended (online and in-person) learning environments, technology can transform the delivery of coursework in preservice preparation and professional development programs. For example, in preservice programs, technology can be used to show real-time or recorded video of educators using evidence-based practices in classroom settings and to connect instruction to field-based learning and real-world practice through the use of virtual classrooms or authentic learning activities (U.S. Department of Education, 2010a). For practicing educators, technology-based learning systems can expand professional development options and provide opportunities to collaborate with peers and leaders (e.g., content-experts, administrators, mentors) in other locations and to receive immediate feedback and instructional support (U.S. Department of Education, 2010a).

The Office of Special Education Programs (OSEP) currently funds two personnel preparation centers focused on developing and disseminating exemplary training modules on evidence-based practices to build the capacity of, and strengthen professional development for, both preservice and practicing educators. The training modules developed by these centers have been discrete, self-contained units of instruction designed to increase educators' knowledge or skills that can stand alone or be used in combination with other components. The grants for both centers are scheduled to end in FY 2012.

One of these centers, the IRIS Center for Training Enhancement (IRIS Center), focuses its TA on preparing kindergarten through grade 12 (K-12) regular and special education personnel to ensure that local educational agencies (LEAs) and schools have personnel with the capacity to provide evidence-based instruction. It also focuses on promoting access to, and greater participation and progress in, the general education curriculum in the least restrictive environment for students with disabilities. For more information about the work of this center, see http://iris.peabody.vanderbilt.edu.

Beginning in 2006, OSEP funded CONNECT: The Center to Mobilize Early Childhood Knowledge (CONNECT) to develop Web-based instructional resources, including training modules, for faculty and other professional development providers. This center's instructional resources focus on evidence-based intervention practices for infants, toddlers, and preschool children with disabilities and their families who are served in a variety of learning environments and inclusive settings. For more information on this center, see http://community.fpg.unc.edu.

User survey results from both of these centers show that college and graduate students, practicing educators, parents, university faculty, and professional development providers are frequent users of their Web sites (IRIS Center for Training Enhancements, 2012; Winton, Buysse, Rous, Lim, & Epstein, 2012). In these surveys, both centers' Web sites also received high overall ratings for the quality, relevance, and usefulness of the training modules that were developed by the centers. The work of the IRIS Center and CONNECT have been helpful, but additional work is needed. Specifically, it is critical that: (a) Existing training modules be updated to align with new developments in the field, as needed; (b) resources be expanded to include coursework, in addition to training modules; and (c) more training modules and coursework be developed to address the most pressing demands that today's educators face in classrooms, early childhood programs, and early intervention programs. These demands include, but are not limited to, aligning curricula and instruction to college- and career-ready standards, adapting principles and practical applications of universal design for learning, providing differentiated instruction, implementing positive behavioral interventions and supports using response to intervention frameworks, and using technology effectively and efficiently to improve results for children with disabilities.

For these reasons, OSEP proposes to fund the National Center for Development of Coursework and Training Modules to Improve Services and Results for Children with Disabilities (Center). The Center will build upon, and expand the work of, previous OSEP investments to develop and disseminate exemplary coursework and training modules on evidence-based practices for: (a) IHE faculty of preservice preparation programs; (b) professional development providers working with State educational agencies (SEAs), LEAs, schools, IDEA Part C lead agencies, early intervention service (EIS) providers, and other early childhood programs serving children with disabilities and their families; and (c) practicing educators. Other interested parties also may access the publically available products.

The purpose of the Center under this priority is to develop and promote the use of innovative teaching and learning tools, coursework, and training modules in order to improve the overall quality of preservice preparation and professional development programs, expand the breadth and depth of the content on evidence-based practices that is provided in these programs, and increase the use of evidence-based practices by educators to effectively meet the needs of children with disabilities and their families. Under this priority, the Center must demonstrate applications of technology to support the use of evidence-based practices. The Center must also use technology to efficiently and effectively develop, deliver, and disseminate its products and services.

Priority: The purpose of this priority is to fund a cooperative agreement to support the establishment and operation of a National Center for Development of Coursework and Training Modules to Improve Services and Results for Children with Disabilities (Center). The Center will: (1) Serve as a national resource for teaching and learning tools, coursework,³ and training modules ⁴ for building the capacity of educators to use evidence-based ⁵ instructional and intervention practices in addressing the needs of children with disabilities (birth through age 21), and professional development practices for use with preservice and practicing educators; (2) make available training modules related to these practices that were developed under prior OSEP investments, and update them to align with developments in the field, as needed; (3) develop exemplary teaching and learning tools, coursework, and training modules on the use of these practices that can be integrated into preservice preparation and professional development programs; (4) demonstrate the application of technology in coursework and training modules to support the use of evidence-based practices; (5) use technology to efficiently and effectively develop, deliver, and disseminate Center products and services; and (6) provide TA to support the use of Center products.

³ For the purposes of this priority, the term “coursework” means a systematic or prescribed program of instruction for increasing knowledge and skills of educators; and typically is comprised of explicit learning outcomes related to professional practice standards, a detailed outline or narrative of core content, related professional-level readings and resources, teaching and learning tools, and objective measures of knowledge and skills used to evaluate competence in those areas.

⁴ For the purposes of this priority, the term “training modules” means discrete, self-contained units of instruction designed to increase one's knowledge or skills that can stand alone or be used in combination with other components.

⁵ For the purposes of this priority, the term “evidence-based” means practices for which there is “strong evidence” or “moderate evidence” of effectiveness as defined in the Department's notice of final supplemental priorities and definitions for discretionary grant programs, published in the Federal Register on December 15, 2010 (75 FR 78486), and corrected on May 12, 2011 (76 FR 27637) (www2.ed.gov/legislation/FedRegister/other/2010-4/121510b.html).

To be considered for funding under this absolute priority, applications must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: www.tadnet.org/model_and_performance and www.researchutilization.org/matrix/logicmodel_resource3c.html.

(b) A plan to implement the activities described in the Project Activities section of this priority. If there are considerations specific to serving infants, toddlers, and preschool children with disabilities and their families versus students with disabilities in kindergarten through 12th grade, these considerations must be delineated in the plan;

(c) A plan, linked to the proposed project's logic model, for a formative evaluation of the proposed project's activities. The plan must describe how the formative evaluation will use clear performance objectives to offer feedback on the Center's: (1) Identification, development, and dissemination of coursework and training modules on evidence-based practices; and (2) TA provided under this priority. The plan must outline how the Center will use feedback from the formative evaluation to ensure continuous improvement in the operation of the proposed project, including objective measures of progress in implementing the project and ensuring the quality, relevance, and usefulness of products and services;

(d) A budget for a summative evaluation to be conducted by an independent third party. At a minimum, the plan must include an independent review of the quality, relevance, and usefulness of the coursework and training modules developed by the Center; the reach of Center products and services; and the impact of the Center's products and services on preservice programs and their students, as well as on practicing educators' knowledge, skills, and use of evidence-based practices;

(e) A budget for attendance at the following:

(1) A two-day kick-off meeting to be held in Washington, DC, within four weeks after receipt of the award, and an annual planning meeting held in Washington, DC, with the OSEP Project Officer during each subsequent year of the project period.

Note: Within 30 days of receipt of the award, a post-award teleconference must be held between the OSEP Project Officer and the grantee's Project Director or other authorized representative;

(2) The three-day OSEP Project Directors' Conference in Washington, DC, during each year of the project period;

(3) The three-day Leveraging Resources Conference in Washington, DC, during each year of the project period; and

(4) Three two-day trips annually to attend Department briefings, Department-sponsored conferences, and other meetings, as requested by OSEP.

(f) A budget that demonstrates that not less than 30 percent of each year's proposed annual budget be used for activities (e.g., development of coursework and training modules, TA) related to infants, toddlers, and preschool children with disabilities and their families.

Note: With approval from the OSEP Project Officer, the Center must reallocate any remaining funds from this annual set-aside no later than the end of the third quarter of each budget period; and

(g) A line item in the proposed budget for an annual set-aside of five percent of the grant amount to support emerging needs that are consistent with the proposed project's activities, as those needs are identified in consultation with and approved by OSEP.

Note: With approval from the OSEP Project Officer, the Center must reallocate any remaining funds from this annual set-aside no later than the end of the third quarter of each budget period.

Project Activities. To meet the requirements of this priority, the Center, at a minimum, must conduct the following activities:

Knowledge Development Activities.

(a) In the first six months of the project, identify exemplary coursework and training modules on evidence-based practices that are available from prior OSEP investments and publically available resources from other developers, submit a descriptive summary of the resources in a written report, and update the resources to align with new developments in the field, as needed.

(b) Develop exemplary coursework and training modules on evidence-based practices that are—

(1) Designed for ease of integration into existing curricula and practica for IHE faculty of preservice preparation programs;

(2) Designed for ease of use by professional development providers working with professional development programs at SEAs, LEAs, and schools; or with IDEA Part C lead agencies, EIS providers, and other early childhood programs serving children with disabilities and their families;

(3) Consistent with adult-learning principles and aligned with current professional practice and training standards for educators, and evidence-based research on preservice preparation and professional development of effective educators;

(4) Planned with consideration for delivery and dissemination using various technology-based teaching formats, tools, and modes of delivery, such as, but not limited to, directed, self-directed, blended, and mobile learning using portable devices; and

(5) Developed to address the needs of children with a broad range of disabilities, including disabilities requiring supports and services of varying intensity levels (e.g., ranging from accommodations in a general education classroom to highly individualized, full-time instruction and specialized equipment).

(c) Ensure that, in sum, coursework and training modules address the selection, implementation, and evaluation of specific evidence-based practices; the use of universal design for learning principles and practices; standards-based instruction; continuous performance-based progress monitoring; data-based decision making; and collaboration among other educators and related services providers, and with families related to—

(1) Improving developmental and learning outcomes for children with disabilities;

(2) Providing special education services and supports, and accommodations for children with disabilities; and

(3) Developing (i) individualized family service plans to ensure that infants, toddlers, and preschool children with disabilities are served in natural environments; and (ii) individualized education programs to ensure school-age children with disabilities are served in the least restrictive environment with access to, and opportunities to participate and make progress in, the general education curriculum.

(d) Collaborate with content experts and representatives from preservice preparation programs (four-year, two-year, and graduate programs), and seek input from professional development providers working with SEAs, LEAs, and schools; professional development providers working with IDEA Part C lead agencies, EIS providers, and other early childhood programs serving children with disabilities and their families; professional associations; and other stakeholders, as appropriate, on the needs of preservice and practicing educators, teaching and learning tools, development plans, and product reviews of coursework and training modules on evidence-based practices.

(e) Following the kick-off meeting, and annually thereafter, submit an annual product development plan prepared in collaboration with the OSEP Project Officer, for approval by OSEP prior to the initiation of any product development activity. The plan must address, at a minimum, how the Center will—

(1) Obtain input on coursework and training module topics and content from content experts, representatives from preservice preparation and professional development providers (see Knowledge Development Activities, paragraphs (b) and (c) of this priority), professional associations, and other stakeholders, as appropriate;

(2) Identify and select topics and products that meet the needs identified; and

(3) Evaluate the content, quality, relevance, and usefulness of products.

(f) Develop new products consistent with the product definition and guidelines posted on the Technical Assistance Coordinating Center (TACC) Web site (www.tadnet.org). Proposed revisions to an approved product development plan may be submitted to or requested by the OSEP Project Officer any time prior to the end of the project period, if changes are needed. The revised plan must be approved by OSEP prior to being adopted.

(g) Develop training guides or materials for IHE faculty and professional development providers that provide information on Center products and services, and content topics; describe how to integrate coursework and training modules into preservice and professional development programs; and explain how coursework and training modules can be used for individual self-directed learning.

(h) Develop self-assessment tools and guides that preservice preparation and professional development providers can use to evaluate program curricula to: (1) Determine where evidence-based practices are, and should be, taught; (2) identify where clinical practice opportunities (e.g., a field placement, internship) are, and should be, embedded to align with preservice or professional development program requirements; (3) identify how and where preservice and practicing educators' knowledge of and skills using evidence-based practices are, and should be, assessed; and (4) document improvements, if any, that have or will be made by the preservice and professional development program based on results from use of self-assessment tools and guides.

(i) Promote the use of existing and emerging technologies to more efficiently and effectively develop, deliver, and disseminate teaching and learning tools, coursework, and training modules on evidence-based practices and provide ongoing TA on the use of Center products and services.

Technical Assistance and Dissemination Activities.

(a) Conduct TA and dissemination activities (e.g., managing Web sites, listservs, and communities of practices; holding conferences and training institutes) on exemplary coursework and training modules on evidence-based practices that can easily be: (1) Integrated into preservice preparation courses and programs at IHEs; (2) incorporated into professional development programs at SEAs, LEAs, and schools; and at IDEA Part C lead agencies, EIS provider programs, and other early childhood programs serving children with disabilities and their families; and (3) used by individual self-directed learners, including educators with disabilities. All coursework and training modules available through the Center, including the evidence base of the practices addressed in the coursework and training modules, must be disseminated as publically available resources on a dedicated Web site that is easily searchable by topic and available for use at no cost. The Web site must meet government or industry-recognized standards for accessibility, must link to the Web site operated by the TACC, and must be accessible in a variety of formats (e.g., accessible online, in downloadable portable document format (PDF) and electronic publication (EPUB) formats, print-on-demand).

(b) Use efficient and effective strategies to develop and provide a continuum of TA to support the delivery of coursework and training modules on using evidence-based practices, including:

(1) General support that is widely available (e.g., one-time, invited conference presentations; information on products, such as newsletters, guidebooks, or research syntheses, downloaded from the Center's Web site by independent users; or brief communications by Center staff with recipients).

(2) Targeted support that is based on needs common to multiple recipients (e.g., conferences and training institutes for a clearly identified target audience, seminars or webinars on topics relevant to integrating Center products into preservice training, facilitating a series of conference calls on topics designed around the needs of recipients, facilitating communities of practice for a target group).

(3) Intensive support that is based on the needs of recipients to attain a specific outcome (e.g., planned, purposeful consultation with a small group of IHE faculty on systemic integration of Center coursework and training models as part of program redesign; ongoing coaching on integration and application of Center products in courses for preservice educators) based on the needs of recipients.

(c) Ensure that the TA provided under this priority is consistent with the evidence base for delivering effective professional development to educators.

(d) Ensure that the TA provided under this priority addresses a range of topics, including, but not limited to, training and coaching on access and use of Center products; integration of evidence-based practices into preservice and professional development training; and strategies for building the capacity of educators for using evidence-based practices with children with disabilities.

(e) Develop and coordinate a national TA network comprised of a cadre of experts that the Center will use to provide training and TA on the use of Center products and services, including: (1) Integrating coursework and training modules into preservice preparation and professional development programs; and (2) assisting faculty and professional development providers in building their capacity to support preservice and practicing educators in identifying, selecting, implementing, and evaluating evidence-based practices for use with infants, toddlers, and preschool children with disabilities and their families, and students with disabilities in kindergarten through 12th grades. The network will also assist the Center with disseminating Center products and other activities, as needed.

(f) Develop and implement an efficient and high-quality dissemination strategy aimed at increasing the reach and potential impact of Center products and services by providing broad audiences with information about the availability and use of Center products and services. The Center must—

(1) Coordinate with the National Dissemination Center for Individuals with Disabilities to implement its dissemination strategy, and report to the OSEP Project Officer the outcomes of these coordination efforts.

(2) Reach primary audiences, including IHE faculty of preservice preparation programs for educators of children with disabilities; and professional development providers working with SEAs, LEAs, and schools, and with IDEA Part C lead agencies, EIS providers, and early childhood programs serving children with disabilities and their families.

(3) Extend outreach efforts to other audiences that also might benefit from Center products and services such as—

(i) Faculty of preservice preparation programs for educators in IHEs that do not have a special education department and programs whose graduates historically have assumed positions in high-poverty schools,⁶ persistently lowest-achieving schools,⁷ priority schools (in the case of States that have received the Department's approval of a request for ESEA flexibility),⁸ or rural LEAs ⁹ that have a critical need for effective educators to serve students with disabilities;

⁶ For the purposes of this priority, “high-poverty school” means a school in which at least 50 percent of students are eligible for free or reduced-price lunches under the Richard B. Russell National School Lunch Act or in which at least 50 percent of students are from low-income families as determined using one of the criteria specified under section 1113(a)(5) of the Elementary and Secondary Education Act of 1965, as amended (ESEA). For middle and high schools, eligibility may be calculated on the basis of comparable data from feeder schools. Eligibility as a high-poverty school under this definition is determined on the basis of the most currently available data.

⁷ For the purposes of this priority, “persistently lowest-achieving schools” means, as determined by the State:

(i) Any Title I school in improvement, corrective action, or * * * restructuring that

(a) is among the lowest-achieving five percent of Title I schools in improvement, corrective action, or restructuring or the lowest-achieving five Title I schools in improvement, corrective action, or restructuring in the State, whichever number of schools is greater; or

(b) is a high school that has had a graduation rate as defined in 34 CFR 200.19(b) that is less than 60 percent over a number of years; and

(ii) any secondary school that is eligible for, but does not receive, Title I funds that:

(a) is among the lowest-achieving five percent of secondary schools or the lowest-achieving five secondary schools in the State that are eligible for, but do not receive, Title I funds, whichever number of schools is greater; or

(b) is a high school that has had a graduation rate as defined in 34 CFR 200.19(b) that is less than 60 percent over a number of years.

To identify the persistently lowest-achieving schools, a State must take into account both:

(i) the academic achievement of the “all students” group in a school in terms of proficiency on the State's assessments under section 1111(b)(3) of the ESEA in reading/language arts and mathematics combined; and

(ii) the school's lack of progress on those assessments over a number of years in the “all student.”

For the purposes of this priority, the Department considers schools that are identified as Tier I or Tier II schools under the School Improvement Grants Program (see 75 FR 66363) as part of a State's approved FY 2009 or FY 2010 applications to be persistently lowest-achieving schools. A list of these Tier I and Tier II schools can be found on the Department's Web site at www2.ed.gov/programs/sif/index.html.

⁸ For the purposes of this priority, the term “priority school” means a school that has been identified by the State as a priority school pursuant to the State's approved request for ESEA flexibility.

⁹ For the purposes of this priority, “rural local educational agency” means an LEA that is eligible under the Small Rural School Achievement (SRSA) program or the Rural and Low-Income School (RLIS) program authorized under Title VI, Part B of the ESEA. Eligible applicants may determine whether a particular LEA is eligible for these programs by referring to information on the Department's Web site at www2.ed.gov/nclb/freedom/local/reap.html.

(ii) Early intervention and special education professional development providers working in programs and schools with high rates of personnel attrition and where effective professional development opportunities may lead to increased staff retention and equitable distribution of effective educators;

(iii) OSEP-funded personnel development grantees; and

(iv) Individuals with disabilities who are, or are training to be, educators who would benefit from the increased accessibility technology can provide.

(g) Use existing and emerging technologies to develop innovative teaching and learning tools, efficiently and effectively deliver training and TA, and increase the reach of Center products and services. Include, as part of its application, a proposed plan describing the proposed potential uses of existing and emerging technologies, including how the Center will collaborate with technology experts, representatives of other stakeholder groups, and OSEP to identify the proposed potential uses of existing and emerging technologies. The Center's plan for TA and dissemination activities must be approved by OSEP prior to initiating the development of any products or services.

(h) Prepare and disseminate reports, documents, and other materials on evidence-based practice and related topics as requested by OSEP for specific audiences, including, but not limited to, IHE faculty of preservice preparation programs for educators of children with disabilities; professional development providers for SEAs, LEAs, and schools; and professional development providers for IDEA Part C lead agencies, EIS providers, and other early childhood programs serving children with disabilities and their families. In consultation with the OSEP Project Officer and members of the group assembled in accordance with this priority (see Leadership and Coordination Activities, paragraph (a) of this priority), the Center must make selected reports, documents, and other materials available in both English and Spanish.

Leadership and Coordination Activities.

(a) Consult with a group of persons, including representatives from SEAs and LEAs, including representatives from IDEA Part C and Part B preschool programs, preservice preparation and professional development programs, professional organizations, other OSEP-funded TA projects, project directors of State Professional Development Grants and other Department-funded higher education projects, and researchers, as appropriate, on the activities and outcomes of the Center and solicit programmatic support and advice from various participants in the group, as appropriate. The Center may convene meetings, whether in person, by phone, or other means, for this purpose or may consult with group participants individually. The Center must identify the members of the group to OSEP within eight weeks after receipt of the award.

(b) Communicate and collaborate, on an ongoing basis, with OSEP-funded projects, including the Center on State Implementation and Scaling Up of Evidence-based Practices, the IDEA Partnership Project, OSEP-funded early childhood centers, and the Regional Resource Centers. This collaboration could include the joint development of products, the coordination of TA services, and the planning and carrying out of TA meetings and events.

(c) Contribute, on an ongoing basis, updated information on the Center's approved and finalized products and services to a database at TACC.

(d) Participate in, organize, or facilitate communities of practice if they align with the needs of the project's primary audience. Communities of practice should align with the project's objectives to support discussions and collaboration among key stakeholders. The following Web site provides more information on communities of practice: www.tadnet.org/communities; and

(e) Maintain ongoing communication with the OSEP Project Officer through monthly phone conversations and email communication.

Extending the Project for a Fourth and Fifth Year: In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products, and the degree to which the Center's activities and products have contributed to changed practice and improved knowledge and skills of educators to select, implement, and evaluate the use of evidence-based practices; and increased use of evidence-based practices by educators serving children with disabilities.

References

Blanton, L. P., Pugach, M. C., & Florian, L. for American Association of Colleges of Teacher Education and the National Center for Learning Disabilities. (April 2011). Preparing General Education Teachers to Improve Outcomes for Students with Disabilities. Available from http://aacte.org/.

Bruder, M. B., Mogro-Wilson, C., Stayton, V. D., & Dietrich, S. L. (2009). The national status of inservice professional development systems for early intervention and early childhood special education practitioners. Infants and Toddlers, 22(1), 13-20.

Jaquith, A., Mindich, D., Wei, R.C., & Darling-Hammond, L. (2010). Teacher professional learning in the United States: Case studies of state policies and strategies. Oxford, OH: Learning Forward.

Institute of Medicine (IOM) and National Research Council (NRC). 2012. The early childhood care and education workforce: Challenges and opportunities: A workshop report. Washington, DC: The National Academies Press.

IRIS Center for Training Enhancements. (2012, March). Quarterly Report: First Quarter, Year 6 Report. Nashville, TN: Author.

U.S. Department of Education, Office of Educational Technology. (2010a). Transforming American Education: Learning Powered by Technology. Washington, DC: Available from www2.ed.gov/about/offices/list/os/technology/netp.pdf.

U.S. Department of Education, Office of Planning, Evaluation and Policy Development. (2010b). ESEA Blueprint for Reform. Washington, DC: Available from www2.ed.gov/policy/elsec/leg/blueprint/index.html.

U.S. Government Accountability Office. (2009). Teacher Preparation Multiple Federal Education Offices Support Teacher Preparation for Instructing Students with Disabilities and English Language Learners, but Systemic Departmentwide Coordination Could Enhance This Assistance, (GAO-09-573). Washington, DC: July 20, 2009. Available from www.GAO.gov/new.items/d09573.pdf.

Wei, R.C., Darling-Hammond, L., & Adamson, F. (2010). Professional development in the United States: Trends and challenges. Dallas, TX: National Staff Development Council.

Winton, P., Buysse, V., Rous, B., Lim, C-I., & Epstein, D. (2012, March). CONNECT Modules: Usage and Impact. Report to the CONNECT Steering Committee, University of North Carolina, FPG Child Development Institute. Chapel Hill, NC: CONNECT: The Center to Mobilize Early Childhood Knowledge.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1462 and 1481.

Applicable Regulations: (a) The Education Department General Administrative Regulations (EDGAR) in 34 CFR parts 74, 75, 77, 79, 80, 81, 82, 84, 86, 97, 98, and 99. (b) The Education Department debarment and suspension regulations in 2 CFR part 3485. (c) The regulations for this program in 34 CFR part 304.

Note: The regulations in 34 CFR part 79 apply to all applicants except federally recognized Indian tribes.

Note: The regulations in 34 CFR part 86 apply to institutions of higher education only.

II. Award Information

Type of Award: Cooperative agreement.

Estimated Available Funds: $1,500,000.

Contingent upon the availability of funds and the quality of applications, we may make additional awards in FY 2013 from the list of unfunded applicants from this competition.

Maximum Awards: We will reject any application that proposes a budget exceeding $1,500,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance.

Note: Applications must include plans for both the 36 month award and the 24-month extension.

III. Eligibility Information

1. Eligible Applicants: SEAs; LEAs, including public charter schools that are considered LEAs under State law; IDEA Part C lead agencies; EIS providers; IHEs; other public agencies; private nonprofit organizations; outlying areas; freely associated States; Indian tribes or tribal organizations; and for-profit organizations.

2. Cost Sharing or Matching: This program does not require cost sharing or matching.

3. Other: General Requirements—(a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address To Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325E.

To obtain a copy from the program office, contact the person listed under For Further Information Contact in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative in Part III.

We will reject your application if you exceed the page limit; or if you apply other standards and exceed the equivalent of the page limit.

3. Submission Dates and Times: Applications Available: June 19, 2012.

Deadline for Transmittal of Applications: July 30, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications.

We are participating as a partner in the Governmentwide Grants.gov Apply site. The National Center for Development of Coursework and Training Modules to Improve Services and Results for Children with Disabilities, CFDA number 84.325E, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the National Center for Development of Coursework and Training Modules to Improve Services and Results for Children with Disabilities, CFDA number 84.325E at www.Grants.gov. You must search for the downloadable application package for this program by the CFDA number. Do not include the CFDA number's alpha suffix in your search (e.g., search for 84.325, not 84.325E).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date. Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.325E), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325E), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: (a) We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

(b) In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. For purposes of this priority, the Center will use these measures which focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Sarah Allen, U.S. Department of Education, 400 Maryland Avenue SW., room 4105, Potomac Center Plaza (PCP), Washington, DC 20202-2600. Telephone: (202) 245-7875.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys.

At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 14, 2012.
Alexa Posny,
Assistant Secretary for Special Education and Rehabilitative Services.

[FR Doc. 2012-14944 Filed 6-18-12; 8:45 am]

BILLING CODE 4000-01-P